DEPARTMENT OF LABOR

Employment and Training Administration

[TA-W-57,078]

Allied Bias Products; Jersey City, NJ; Notice of Termination of Investigation

Pursuant to section 221 of the Trade Act of 1974, as amended, an investigation was initiated on April 29, 2005, in response to a petition filed by a state agency representative on behalf of workers at Allied Bias Products, Jersey City, New Jersey.

The petitioner has requested that the petition be withdrawn. Consequently, further investigation would serve no purpose the investigation has been terminated.

Signed at Washington, DC, this 2nd day of June, 2005.
Linda G. Poole,
Certifying Officer, Division of Trade Adjustment Assistance.

[FR Doc. E5-3171 Filed 6-17-05; 8:45 am]

BILLING CODE 4510-30-P